DEPARTMENT OF HEALTH AND HUMAN SERVICES

Centers for Disease Control and Prevention

[30Day-17-17ND]

Agency Forms Undergoing Paperwork Reduction Act Review

The Centers for Disease Control and Prevention (CDC) has submitted the following information collection request to the Office of Management and Budget (OMB) for review and approval in accordance with the Paperwork Reduction Act of 1995. CDC previously published a “Proposed Data Collection Submitted for Public Comment and Recommendations” notice on February 10, 2017 to obtain comments from the public and affected agencies. CDC received one comment related to the previous notice. The purpose of this notice is to allow an additional 30 days for public comments.

Written comments and suggestions from the public and affected agencies concerning the proposed collection of information are encouraged. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Annual Progress Report (APR) for Injury Control Research Centers (ICRC)—New—National Center for Injury Prevention and Control (NCIPC), Centers for Disease Control and Prevention (CDC).

Background and Brief Description

The Injury Control Research Centers (ICRCs) form a national network of ten comprehensive academic research centers that focus on three core functions: Research, training, and outreach. ICRCs are on the scientific front line conducting cutting-edge, multidisciplinary research on the causes, outcomes, and prevention of injuries and violence.

ICRC research focuses on issues of local and national importance including motor vehicle injuries; interpersonal violence and suicide; opioid overdoses; older adult falls; and traumatic brain injuries. ICRCs work with states and communities to ensure research is put into action to prevent injuries and violence. They provide technical assistance to disseminate and translate research findings which leads to increased awareness and influences action. ICRCs play a critical role training and developing the current and next generation of researchers and public health professionals. This helps ensure there is an adequate supply of qualified practitioners and researchers to advance prevention research, address new problems, and reach new populations across the nation.

The CDC seeks OMB approval for three years to collect Annual Progress Report (APR) information from 10 grantees funded under Grants for Injury Control Research Centers (ICRC). ICRC awardees will report activity information to CDC annually using three fillable electronic templates. The first Word-based template is the principal tool for the Indicators Data Collection (IDC), which is based on a set of program activity indicators and key ICRC evaluation questions. The second Word-based template collects information about non-CDC-funded studies, and the third template, which is Excel-based, collects information about ICRC personnel and publications. Information will be reported electronically to the NCIPC for program monitoring, and hard copies will be submitted to CDC's Office of Financial Resources (OFR). Together, the tools describe grantees' annual goals, objectives, progress, and performance towards overall cooperative agreement aims. The tools also describe how grantees implement and use evidence-based injury prevention and control strategies.

Information to be collected will provide crucial data for program performance monitoring, will allow CDC to analyze and synthesize information from grantees, help ensure consistency in documenting progress and technical assistance, enhance accountability of the use of federal funds, and provide timely reports as frequently requested by the Department of Health and Human Services, the White House, and Congress.

Submission of the Annual Progress Report is required for cooperative agreement grantees. The total estimated annualized burden hours are 500. There is no cost to respondents other than their time.

Estimated Annualized Burden Hours
Type of respondents | Form name | Number of respondents | Number of responses per respondent | Average burden per response (in hours)
Injury Control Research Center (ICRC) Grantees | ICRC Indicators Data Collection | 10 | 1 | 20
(ICRC) Grantees | ICRC Indicators Data Collection: Non-CDC Study Supplement | 10 | 1 | 10
| ICRC Personnel and Publication Excel Data Collection | 10 | 1 | 20

Leroy A. Richardson,
Chief, Information Collection Review Office, Office of Scientific Integrity, Office of the Associate Director for Science, Office of the Director, Centers for Disease Control and Prevention.

[FR Doc. 2017-22197 Filed 10-12-17; 8:45 am]

BILLING CODE 4163-18-P